ENVIRONMENTAL PROTECTION AGENCY

[ER-FRL-8987-4]

Environmental Impact Statements and Regulations; Availability of EPA Comments

Availability of EPA comments prepared pursuant to the Environmental Review Process (ERP), under section 309 of the Clean Air Act and Section 102(2)(c) of the National Environmental Policy Act as amended.

Requests for copies of EPA comments can be directed to the Office of Federal Activities at 202-564-7146 or http://www.epa.gov/compliance/nepa/. An explanation of the ratings assigned to draft environmental impact statements (EISs) was published in FR dated July 17, 2009 (74 FR 34754).

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Draft EISs

EIS No. 20090324, ERP No. D-AFS-H65031-00,Nebraska National Forests and Grassland Travel Management Project, Proposes to Designate Routes and Areas Open to Motorized Travel, Buffalo Gap National Grassland, Oglala National Grassland, Samuel R. McKelvie National Forest, and the Pine Ridge and Bessey Units of the Nebraska National Forest, Fall River, Custer, Pennington, Jackson Counties; SD and Sioux, Dawes, Cherry, Thomas and Blaine Counties, NE.

Summary: EPA expressed environmental concerns about soil and water quality impacts. Rating EC2.

EIS No. 20090337, ERP No. D-BLM-L65522-OR,Vegetation Treatments Using Herbicides on Bureau of Land Management (BLM) Lands in Oregon, Implementation, OR.

Summary: EPA does not object to the proposed action. Rating LO.

EIS No. 20090343, ERP No. D-AFS-L65523-OR, Deschutes and Ochoco National Forest and the Crooked River National Grassland Travel Management Project, Implementation, Deschutes, Jefferson, Crook, Klamath, Lake, Grant and Wheeler County, OR.

Summary: EPA expressed environmental concerns about the spread invasive plant, heritage resources, and impacts to native plants, and recommended additional dispersed camping mitigation measures. Rating EC2.

EIS No. 20090360, ERP No. D-NGB-B11026-VT, 158th Fighter Wing Vermont Air National Guard Project, Proposed Realignment of National Guard Avenue and Main Gate Construction, Burlington International Airport in South Burlington, VT.

Summary: While EPA has no objections to the proposed project, we requested that the National Guard Bureau consider the use of Low Impact Development options. Rating LO.

EIS No. 20090367, ERP No. D-USA-G15002-00, Fort Bliss Army Growth and Force Structure Realignment Project, Implementing Land Use Changes and Improving Training Infrastructure to Support the Growth the Army (GTA) Stationing Decision, El Paso County, TX and Dona Ana and Otero Counties, NM.

Summary: EPA does not object to the proposed action. Rating LO.

EIS No. 20090372, ERP No. D-FRB-L99012-WA, Federal Reserve Bank of San Francisco, Propose to sell the Property at 1015 Second Avenue that is Eligible for Listing on the National Register of Historic Places, located in Seattle, WA.

Summary: EPA does not object to the proposed action. Rating LO.

EIS No. 20090374, ERP No. D-DOE-E09812-MS, Kemper County Integrated Gasification Combined-Cycle (IGCC) Project, Construction and Operation of Advanced Power Generation Plant, U.S. Army COE Section 404 Permit, Kemper County, MS.

Summary: EPA expressed environmental concerns about air quality, water resources, wetlands, waste, and floodplain impacts. Rating EC2.

EIS No. 20090376, ERP No. D-AFS-K65381-CA, Piute Fire Restoration Project, Proposes to Salvage Dead and Dying Trees, Treat Excess Fuels, and Plant Trees, Kern River Ranger District, Sequoia National Forest, Kern County, CA.

Summary: EPA expressed environmental concerns about air quality and pesticide impacts. EPA also requested information on how climate change may affect the proposed project, particularly reforestation efforts. Rating EC2.

EIS No. 20090390, ERP No. D-NOA-E91029-00, Amendment 31 to the Fishery Management Plan for Reef Fish Resources, Addresses Bycatch of Sea Turtles in the Bottom Longline Component of the Reef Fish Fishery, Gulf of Mexico.

Summary: EPA expressed environmental concerns about impacts associated with the use of squid bait and societal effects on longliners, particularly EJ fishers. Rating EC2.

EIS No. 20090397, ERP No. D-USA-G39052-00, PROGRAMMATIC—Louisiana Coastal Area (LCA) Beneficial Use of Dredged Material (BUDMAT) Program Study, To Establish the Structure and Management Architecture of the BUDMAT Program, Implementation, MS, TX, and LA.

Summary: EPA does not object to the proposed action. Rating LO.

EIS No. 20090400, ERP No. D-AFS-F65087-WI, Twin Ghost Project, Proposes to Implement Vegetation and Transportation Management Activities, Great Divide Ranger District, Chequamegon-Nicolet National Forest, Ashland, Bayfield, Sawyer Counties, WI.

Summary: EPA continues to have environmental concerns about cumulative impacts. Rating EC2.

EIS No. 20090392, ERP No. DS-FHW-K40229-HI, Saddle Road (HI-200) Improvements Project. Proposed Improvement from Mamaloha Highway (HI-190) to Milepost 41, Hawaii County, HI.

Summary: EPA does not object to the project. Rating LO.

EIS No. 20090396, ERP No. DS-CGD-E02013-AL, Bienville Offshore Energy Terminal (BOET) Deepwater Port License Application Amendment (Docket # USCG-2006-24644), Proposes to Construct and Operate a Liquefied Natural Gas Receiving and Regasification Facility, Outer Continental Shelf of the Gulf of Mexico, South of Fort Morgan, AL.

Summary: While EPA's previous issues have been resolved, we continue to have environmental concerns about air emissions and impacts on ichthyoplankton and other planktonic forms. Rating EC2.

Final EISs

EIS No. 20090334, ERP No. F-FRC-B03007-00, Hubline/East to West Project, Proposes to Modify its Existing Natural Gas Transmission Pipeline System in MA, CT, RI, and NJ.

Summary: EPA does not object to the project as proposed.

EIS No. 20090370, ERP No. F-NOA-B91030-00, Amendment 16 to the Northwest Multispecies Fishery Management Plan, Propose to Adopt, Approval and Implementation Measures to Continue Formal Rebuilding Program for Overfishing and to End Overfishing on those Stock where it Occurs, Gulf of Maine.

Summary: EPA does not object to the proposed action.

EIS No. 20090380, ERP No. F-NPS-E61077-GA, Chattahoochee River National Recreation Area General Management Plan, Preferred Alternative is F, Future Directions for the Management and Use of Chattachoochee River National Recreation Area, Implementation, Chattahoochee River, Atlanta, GA.

Summary: EPA does not object to the proposed project. EIS No. 20090393, ERP No. F-DOE-F09804-MN, Mesaba Energy Project, Proposes to Design, Construct and Operate a Coal-Based Integrated Gasification Cycle (IGCC) Electric Power Generating Facility, Located in the Taconite Tax Relief Area (TTRA), Itasca and St. Louis Counties, MN.

Summary: EPA expressed environmental concerns about wetland impacts and mitigation, air permitting, and greenhouse gas emission.

EIS No. 20090399, ERP No. F-NPS-A84030-00, PROGRAMMATIC—Servicewide Benefits Sharing Project, To Clarify the Rights and Responsibilities of Researchers and National Park Service (NPS) Management in Connection with the Use of Valuable Discoveries, Inventions, and Other Developments, across the United States.

Summary: No formal comment letter was sent to the preparing agency.

EIS No. 20090401, ERP No. F-IBR-K39118-CA, Delta-Mendota Canal/California Aqueduct Intertie Project, Construction and Operation of a Pumping Plant and Pipeline Connection, San Luis Delta-Mendota Water Authority Project, Central Valley Project, Alameda and San Joaquin Counties, CA.

Summary: EPA continues to have environmental concerns about the ability of the project to provide significant benefits given discrepancies between available water supply, demand, and contract water quantities.

EIS No. 20090404, ERP No. F-FAA-K51041-CA, ADOPTION—BART-Oakland International Airport Connector, extending South from the existing Coliseum BART Station, about 3.2 miles, to the Airport Terminal Area, Alameda County, CA.

Summary: EPA does not object to the proposed action.

EIS No. 20090417, ERP No. F-NOA-E91027-00, Comprehensive Ecosystem-Base Amendment 1 (CE-BA 1) for the South Atlantic Region, Implementation.

Summary: EPA's previous issues have been resolved; therefore, EPA does not object to the proposed action.

EIS No. 20090420, ERP No. F-FHW-F40446-IN, I-69 Evansville to Indianapolis, Indiana Project, Section 3, Washington to Crane NSWC (U.S. 50 to U.S. 231), Daviess, Greene, Knox, and Martin Counties, IN.

Summary: EPA's previous issues have been resolved, therefore, EPA does not object to the proposed action.

EIS No. 20090422, ERP No. F-IBR-H28002-KS, Equus Beds Aquifer Storage Recharge and Recovery Project, To Provide Municipal and Industrial (M&I) Water to City and Surrounding Region, Equus Beds Division, Wichita Project, Kansas, Harvey, Sedgwick, and Reno Counties, KS.

Summary: EPA's previous concerns have been resolved; therefore, EPA does not object to the proposed action.

EIS No. 20090336, ERP No. FB-FHW-B40029-VT, Southern Connector/Champlain Parkway Project (MEGC-M5000(1), Construction from Interchange of I-189 to Shelburne Street (U.S. Route 2) and Extending westerly and northerly to the City of Center District within the City of Burlington, Chittenden County, VT.

Summary: EPA does not object to the proposed project.

Dated: January 12, 2010.
Robert W. Hargrove,
Director, NEPA Compliance Division, Office of Federal Activities.

[FR Doc. 2010-753 Filed 1-14-10; 8:45 am]

BILLING CODE 6560-50-P